Proclamation 10387 of April 29, 2022

Loyalty Day, 2022

By the President of the United States of America

A Proclamation

On Loyalty Day, we reaffirm our allegiance to the Nation we share and to the principles of freedom, justice, equality, and dignity enshrined in the Declaration of Independence and the United States Constitution.

Our unity and common purpose as Americans—not hindered but strengthened by our differences—is and has always been the source of our limitless potential. The weaving together of diverse cultures, heritages, religions, backgrounds, and ideals across generations has sparked our capacity to build the strongest, freest, and most prosperous country the world has ever known. And though we have not always fully lived up to our founding promise of equality and justice for all, we have never fully walked away from that promise either. It is up to each of us to heed the call of our Constitution—to do all that we can to form a more perfect Union, coming together around the values and ideals that make us one united people.

Today, we salute the Americans whose hard work and sacrifice have strengthened our Nation in common cause—including veterans who have defended our country in uniform; abolitionists, suffragists, activists, and advocates who have helped deliver the full promise of America to more Americans; workers and entrepreneurs whose ingenuity and vision have helped expand the possibilities of life in our Nation; and countless others who have made America a beacon of hope for people throughout the world.

We also extend our deep and abiding gratitude to the members of our Armed Forces, as well as to their families, caregivers, and survivors. We thank our dedicated educators for their essential work lifting up the next generation of Americans, and we applaud our first responders and other essential workers for their selflessness and determination every day—especially throughout these past 2 years, as they have carried our Nation on their backs. May 1 is also International Workers' Day—and today, we honor the workers of every age and background who built this country and who continue to help build a better America today. Today and every day, we are grateful to all of the workers who have organized and fought to improve our Nation and create a fairer and more just society for all.

To celebrate our shared American spirit and the sacrifices so many of our fellow citizens have made, the Congress, by Public Law 85-529, as amended, has designated the first day of May each year as Loyalty Day. On this day, let us reaffirm our commitment to the values that bind us together and honor all those who have defended our freedom and ideals.

NOW, THEREFORE, I, JOSEPH R. BIDEN JR., President of the United States of America, do hereby proclaim May 1, 2022, as Loyalty Day. This Loyalty Day, I call upon the people of the United States to join in this national observance, display the American flag, and pledge allegiance to our Republic for which it stands.

IN WITNESS WHEREOF, I have hereunto set my hand this twenty-ninth day of April, in the year of our Lord two thousand twenty-two, and of the Independence of the United States of America the two hundred and forty-sixth.

[FR Doc. 2022-09769

Filed 5-4-22; 8:45 am]

Billing code 3395-F2-P